DEPARTMENT OF HEALTH AND HUMAN SERVICES

National Institutes of Health

Center for Scientific Review; Amended Notice of Meeting

Notice is hereby given of a change in the meeting of the Center for Scientific Review Special Emphasis Panel, November 18, 2010, 2 p.m. to November 18, 2010, 4 p.m., National Institutes of Health, 6701 Rockledge Drive, Bethesda, MD 20892 which was published in the Federal Register on October 25, 2010, 75 FR 65498-65499.

The meeting title has been changed to “RFA Panel: Translational Research in Pediatric and Obstetric Pharmacology”. The meeting is closed to the public.

Dated: October 28, 2010.
Jennifer S. Spaeth,
Director, Office of Federal Advisory Committee Policy.

[FR Doc. 2010-27769 Filed 11-2-10; 8:45 am]

BILLING CODE 4140-01-P